DEPARTMENT OF ENERGY

Federal Energy Regulatory Commission

[Docket Nos. ER06-615-000; ER07-1257-000; ER08-1113-000; ER08-1178-000; OA08-62-000]

California Independent System Operator Corporation; Notice of FERC Staff Attendance

March 3, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

March 9, 2009—MRTU Parallel Operations Touchpoint.

March 10, 2009—MRTU Parallel Operations Touchpoint.

Systems Interface User Group.

2010 Local Capacity Technical Study Meeting.

March 11, 2009—Congestion Revenue Rights.

Settlements and Market Clearing User Group.

March 12, 2009—MRTU Parallel Operations Touchpoint.

Joint Market Surveillance Committee and Stakeholder Meeting.

March 16, 2009—MRTU Parallel Operations Touchpoint.

March 17, 2009— MRTU Parallel Operations Touchpoint.

Systems Interface User Group.

March 18, 2009—Settlements and Market Clearing User Group

Congestion Revenue Rights.

March 19, 2009— MRTU Parallel Operations Touchpoint.

March 20, 2009—Participating Intermittent Resource Program Meeting.

Sponsored by the CAISO, the teleconferences and meetings are open to all market participants, and staff's attendance is part of the Commission's ongoing outreach efforts. The teleconferences and meetings may discuss matters at issue in the above-captioned dockets.

For further information, contact Saeed Farrokhpay at saeed.farrokhpay@ferc.gov; (916) 294-0322 or Maury Kruth at maury.kruth@ferc.gov, (916) 294-0275.

Kimberly D. Bose,
Secretary.

[FR Doc. E9-5226 Filed 3-10-09; 8:45 am]

BILLING CODE 6717-01-P